DEPARTMENT OF TRANSPORTATION

Federal Aviation Administration

14 CFR Part 71

[Docket No. FAA-2023-1906; Airspace Docket No. 22-AWA-3]

RIN 2120-AA66

Amendment of Class C Airspace; San Juan Luis Munoz Marin International Airport, PR

AGENCY: Federal Aviation Administration (FAA), DOT.

ACTION: Final rule.

SUMMARY: This action modifies the San Juan Luis Munoz Marin International Airport, PR (SJU), Class C airspace by adding a cutout to the surface area near the Fernando Luis Ribas Dominicci Airport, PR (SIG). The FAA is taking this action to enhance safety and enable more efficient operations at SJU and SIG.

DATES: Effective date 0901 UTC, July 11, 2024. The Director of the Federal Register approves this incorporation by reference action under 1 CFR part 51, subject to the annual revision of FAA Order 7400.11 and publication of conforming amendments.

ADDRESSES: A copy of the Notice of Proposed Rulemaking (NPRM), all comments received, this final rule, and all background material may be viewed online at www.regulations.gov using the FAA Docket number. Electronic retrieval help and guidelines are available on the website. It is available 24 hours each day, 365 days each year.

FAA Order JO 7400.11H, Airspace Designations and Reporting Points, and subsequent amendments can be viewed online at www.faa.gov/air_traffic/publications/. You may also contact the Rules and Regulations Group, Office of Policy, Federal Aviation Administration, 800 Independence Avenue SW, Washington, DC 20591; telephone: (202) 267-8783.

FOR FURTHER INFORMATION CONTACT: Brian Vidis, Rules and Regulations Group, Office of Policy, Federal Aviation Administration, 800 Independence Avenue SW, Washington DC 20591; telephone: (202) 267-8783.

SUPPLEMENTARY INFORMATION:

Authority for This Rulemaking

The FAA's authority to issue rules regarding aviation safety is found in Title 49 of the United States Code. Subtitle I, Section 106 describes the authority of the FAA Administrator. Subtitle VII, Aviation Programs, describes in more detail the scope of the agency's authority. This rulemaking is promulgated under the authority described in Subtitle VII, Part A, Subpart I, Section 40103. Under that section, the FAA is charged with prescribing regulations to assign the use of the airspace necessary to ensure the safety of aircraft and the efficient use of airspace. This regulation is within the scope of that authority as it modifies terminal airspace as required to preserve the safe and efficient flow of air traffic in the San Juan, PR, area.

History

The FAA published a NPRM for Docket No. FAA-2023-1906 in the Federal Register (88 FR 68509; October 4, 2023) proposing to modify the Class C airspace area surrounding SJU. Interested parties were invited to participate in this rulemaking effort by submitting written comments on the proposal. One comment was received from the Air Line Pilots Association International in support of the new SJU Class C airspace design.

Differences From the NPRM

Subsequent to publication of the NPRM, the FAA identified that the SJU Airport Reference Point (ARP) geographic coordinates listed in the Class C airspace description had been rounded in error and published as “lat. 18°26′22″ N, long. 66°00′07″ W”. The correct ARP for SJU is “lat. 18°26′22″ N, long. 066°00′08″ W”. The ARP for SJU is changed from “lat. 18°26′22″ N, long. 66°00′07″ W” to “lat. 18°26′22″ N, long. 066°00′08″W”. This final rule corrects the error.

Incorporation by Reference

Class C airspace designations are published in paragraph 4000 of FAA Order JO 7400.11, Airspace Designations and Reporting Points, which is incorporated by reference in 14 CFR 71.1 on an annual basis. This document amends the current version of that order, FAA Order JO 7400.11H, dated August 11, 2023, and effective September 15, 2023. FAA Order JO 7400.11H is publicly available as listed in the ADDRESSES section of this document. This amendment will be published in the next update to FAA Order JO 7400.11.

FAA Order JO 7400.11H lists Class A, B, C, D, and E airspace areas, air traffic service routes, and reporting points.

The Rule

This action amends 14 CFR part 71 by modifying the San Juan Luis Munoz Marin International Airport (SJU), PR, Class C airspace description by adding a cutout to the Class C surface area northwest of SJU from the surface to but not including 1,200 feet above mean sea level (MSL). This amendment enhances flight safety by allowing aircraft departing runway 9 at Fernando Luis Ribas Dominicci Airport, PR (SIG), when the SIG air traffic control tower is closed, the ability to either remain outside of the San Juan, PR, Class C airspace by turning to the north and west or to have additional time to establish two-way radio communication with the San Juan air traffic control tower prior to entering the San Juan, PR, (SJU) Class C airspace.

Additionally, the FAA corrects the first line of the Class C airspace description header information by only listing the city and territory location of the airport. This change follows the FAA's current airspace description format guidance.

Regulatory Notices and Analyses

The FAA considers the impacts of regulatory actions under a variety of executive orders and other requirements. First, Executive Order 12866 and Executive Order 13563 direct that each Federal agency shall propose or adopt a regulation only upon a reasoned determination that the benefits of the intended regulation justify the costs. Second, the Regulatory Flexibility Act of 1980 (Pub. L. 96-354) requires agencies to analyze the economic impact of regulatory changes on small entities. Third, the Trade Agreements Act (Pub. L. 96-39) prohibits agencies from setting standards that create unnecessary obstacles to the foreign commerce of the United States. Fourth, the Unfunded Mandates Reform Act of 1995 (Pub. L. 104-4) requires agencies to prepare a written assessment of the costs, benefits, and other effects of proposed or final rules that include a Federal mandate that may result in the expenditure by State, local, and tribal governments, in the aggregate, or by the private sector, of $100,000,000 or more (adjusted annually for inflation) in any one year. The current threshold after adjustment for inflation is $177 million using the most current (2022) Implicit Price Deflator for the Gross Domestic Product. This portion of the preamble presents the FAA's analysis of the economic impacts of this rule.

In conducting these analyses, the FAA has determined that this rule: will have a minimal cost impact; is not a “significant regulatory action” as defined in section 3(f)(1) of Executive Order 12866 as amended by Executive Order 14094; will not have a significant economic impact on a substantial number of small entities; will not create unnecessary obstacles to the foreign commerce of the United States; and will not impose an unfunded mandate on State, local, or tribal governments, or on the private sector.

As discussed above, the FAA determined that changes put forth in this final rule will reduce the risk of midair collisions and improve the use of the SJU airspace. The FAA amends the Class C airspace at the San Juan Luis Munoz Marin International Airport (SJU) in Puerto Rico. The existing airspace structure does not adequately address the traffic conflicts that might arise when the SIG Airport Traffic Control Tower (ATCT) is closed, and Visual Flight Rules (VFR) aircraft depart SIG and subsequently transition eastbound through the SJU Class C airspace prior to establishing communications with San Juan air traffic control.

Currently, SIG is considered a satellite airport to SJU, and thus VFR aircraft departing SIG after the SIG ATCT closes only need to contact San Juan air traffic control as soon as practicable, after departing. Traffic conflicts occur when SIG ATCT closes, VFR aircraft depart SIG to the east into SJU Class C airspace and have yet to contact the San Juan air traffic controller. As a result, they could possibly cause midair collisions. The FAA proposes a cutout to the SJU Class C surface area near SIG airport to mitigate the identified safety risks of possible traffic conflicts.

Creating a cutout to the northwest of the SJU Class C surface area allows aircraft coming from the eastern side of SIG to operate without entering the SJU Class C airspace and thus, enhance air traffic efficiency. In addition, the cutout area places the SIG airport outside of the SJC Class C surface area, and therefore, it would require all VFR aircraft departing SIG to contact the San Juan air traffic control prior to entering the SJC Class C airspace area. As a result, it will create a safer airspace.

Regulatory Flexibility Act

The Regulatory Flexibility Act of 1980 (Pub. L. 96-354) (RFA) establishes “as a principle of regulatory issuance that agencies shall endeavor, consistent with the objectives of the rule and of applicable statutes, to fit regulatory and informational requirements to the scale of the businesses, organizations, and governmental jurisdictions subject to regulation.” To achieve this principle, agencies are required to solicit and consider flexible regulatory proposals and to explain the rationale for their actions to assure that such proposals are given serious consideration.” The RFA covers a wide range of small entities, including small businesses, not-for-profit organizations, and small governmental jurisdictions.

Agencies must perform a review to determine whether a rule will have a significant economic impact on a substantial number of small entities. If the agency determines that it will, the agency must prepare a regulatory flexibility analysis as described in the RFA. However, if an agency determines that a rule is not expected to have a significant economic impact on a substantial number of small entities, section 605(b) of the RFA provides that the head of the agency may so certify, and a regulatory flexibility analysis is not required. The certification must include a statement providing the factual basis for this determination, and the reasoning should be clear.

The final rule amends the Class C airspace at the SJU in Puerto Rico. The FAA is taking this action to reduce the risk of midair collisions and improve the use of the SJU airspace. The FAA determined that changes put forth in this final rule increase airspace safety and efficiency. The change affects general aviation operators using the cutout of SJU Class C surface area when the SIG ATCT is closed, and VFR aircraft depart SIG and subsequently transition eastbound through the SJU Class C airspace prior to establishing communications with San Juan air traffic control. The objectives of these changes are to enhance safety and enable more efficient operations at SJU and SIG without being burdensome to the industry. Therefore, as provided in section 605(b), the head of the FAA certifies that this rulemaking will not result in a significant economic impact on a substantial number of small entities.

International Trade Impact Assessment

The Trade Agreements Act of 1979 (Pub. L. 96-39), as amended by the Uruguay Round Agreements Act (Pub. L. 103-465), prohibits Federal agencies from establishing standards or engaging in related activities that create unnecessary obstacles to the foreign commerce of the United States. Pursuant to these Acts, the establishment of standards is not considered an unnecessary obstacle to the foreign commerce of the United States, so long as the standard has a legitimate domestic objective, such as the protection of safety, and does not operate in a manner that excludes imports that meet this objective. The statute also requires consideration of international standards and, where appropriate, that they be the basis for U.S. standards. The FAA has assessed the potential effect of this final rule and determined that it should improve safety and is consistent with the Trade Agreements Act. The FAA has assessed the potential effect of this final rule and determined that it will improve safety and is consistent with the Trade Agreements Act.

Unfunded Mandates Assessment

The Unfunded Mandates Reform Act of 1995 (2 U.S.C. 1531-1538) governs the issuance of Federal regulations that require unfunded mandates. An unfunded mandate is a regulation that requires a state, local, or tribal government or the private sector to incur direct costs without the Federal government having first provided the funds to pay those costs. The FAA determined that the final rule will not result in the expenditure of $177 million or more by State, local, or tribal governments, in the aggregate, or the private sector, in any one year. This final rule does not contain such a mandate; therefore, the Act does not apply.

Paperwork Reduction Act

The Paperwork Reduction Act of 1995 (44 U.S.C. 3507(d)) requires that the FAA consider the impact of paperwork and other information collection burdens imposed on the public. The FAA has determined that there is no new information collection requirement associated with this final rule.

Environmental Review

The FAA has determined that this action of modifying the SJU Class C airspace by adding a cutout to the surface area near the SIG is categorically excluded from further environmental review under the National Environmental Policy Act (42 U.S.C. 4321 et seq.) and its implementing regulations at 40 CFR part 1500, and in accordance with FAA Order 1050.1F, Environmental Impacts: Policies and Procedures, paragraph 5-6.5a, which categorically excludes from further environmental impact review rulemaking actions that designate or modify classes of airspace areas, airways, routes, and reporting points (see 14 CFR part 71, Designation of Class A, B, C, D, and E Airspace Areas; Air Traffic Service Routes; and Reporting Points), and paragraph 5-6.5i, which categorically excludes from further environmental review the establishment of new or revised air traffic control procedures conducted at 3,000 feet or more above ground level (AGL); procedures conducted below 3,000 feet AGL that do not cause traffic to be routinely routed over noise sensitive areas; modifications to currently approved procedures conducted below 3,000 feet AGL that do not significantly increase noise over noise sensitive areas; and increases in minimum altitudes and landing minima, and paragraph 5-6.5k, which categorically excludes from further environmental review the publication of existing air traffic control procedures that do not essentially change existing tracks, create new tracks, change altitude, or change concentration of aircraft on these tracks. As such, this action is not expected to result in any potentially significant environmental impacts. In accordance with FAA Order 1050.1F, paragraph 5-2 regarding Extraordinary Circumstances, the FAA has reviewed this action for factors and circumstances in which a normally categorically excluded action may have a significant environmental impact requiring further analysis. Accordingly, the FAA has determined that no extraordinary circumstances exist that warrant preparation of an environmental assessment or environmental impact study.

List of Subjects in 14 CFR Part 71

Airspace, Incorporation by reference, Navigation (air).

The Amendment

In consideration of the foregoing, the Federal Aviation Administration amends 14 CFR part 71 as follows:

PART 71—DESIGNATION OF CLASS A, B, C, D, AND E AIRSPACE AREAS; AIR TRAFFIC SERVICE ROUTES; AND REPORTING POINTS

1. The authority citation for 14 CFR part 71 continues to read as follows:

Authority: 49 U.S.C. 106(f), 106(g), 40103, 40113, 40120; E.O. 10854, 24 FR 9565, 3 CFR, 1959-1963 Comp., p. 389.

§ 71.1 [Amended]

2. The incorporation by reference in 14 CFR 71.1 of FAA Order JO 7400.11H, Airspace Designations and Reporting Points, dated August 11, 2023, and effective September 15, 2023, is amended as follows:

Paragraph 4000. Class C Airspace.

* * * * *

ASO PR C San Juan, PR [Amended]

Luis Munoz Marin International Airport, PR

(Lat. 18°26′22″ N, long. 066°00′08″ W)

That airspace extending upward from the surface to and including 4,000 feet MSL within a 5-mile radius of the Luis Munoz Marin International Airport beginning at lat. 18°30′24″ N, long. 066°03′16″ W, clockwise to lat. 18°26′41″ N, long. 066°05′23″ W, thence east to lat. 18°26′42″ N, long 066°03′34″ W, thence north to the beginning point; and that airspace extending upward from 2,800 feet MSL to 4,000 feet MSL within a 10-mile radius of the Luis Munoz Marin International Airport from the 129° bearing from the airport clockwise to the 189° bearing from the airport; and that airspace extending upward from 1,700 feet MSL to 4,000 feet MSL within a 10-mile radius of the airport from the 189° bearing from the airport clockwise to the 229° bearing from the airport; and that airspace extending upward from 1,200 feet MSL to 4,000 feet MSL within a 10-mile radius of the airport from the 229° bearing from the airport clockwise to the 129° bearing from the airport.

* * * * *

Issued in Washington, DC, on March 29, 2024.
Frank Lias,
Manager, Rules and Regulations Group.

[FR Doc. 2024-07086 Filed 4-3-24; 8:45 am]

BILLING CODE 4910-13-P